DEPARTMENT OF COMMERCE

Census Bureau

Proposed Information Collection; Comment Request; Business and Professional Classification Report

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration written comments must be submitted on or before September 24, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Scott Handmaker, Chief, Economic Classifications Operations Branch, U.S. Census Bureau, 8K149, Washington, DC 20233, Telephone: 301-763-7107; E-mail: Scott.P.Handmaker@census.gov.

SUPPLEMENTARY INFORMATION:

I. Abstract

The Business and Professional Classification Report survey, (Form SQ-CLASS) collects information about new businesses to properly classify them for Census Bureau economic surveys. The survey samples businesses with newly assigned Employer Identification Numbers (EINs) from the Internal Revenue Service (IRS) quarterly, on the SQ-CLASS form. This survey is conducted only once for each new business that is sampled. The SQ-CLASS form collects minimum data about a business on such areas as: primary business activity, EIN verification, company structure, size, and business operations. This information is used to replenish the Census Bureau survey universe with properly classified new businesses, updated administrative information, and current business data, which reduce respondent burdens to Census surveys and assure high quality economic estimates.

The Census Bureau plans only minimal changes to the form and instruction sheet. The wording of the questions and instructions for both sales and inventory will be reworded to be in line with the Census Bureau's monthly and annual surveys.

II. Method of Collection

The information will be collected by mail, fax, and telephone follow-up.

III. Data

OMB Number: 0607-0189.

Form Number: SQ-CLASS.

Type of Review: Regular submission.

Affected Public: Business or other for-profit organizations.

Estimated Number of Respondents: 50,000.

Estimated Time per Response: 13 minutes.

Estimated Total Annual Burden Hours: 10,835.

Estimated Total Annual Cost: $316,057.

Respondent's Obligation: Voluntary.

Legal Authority: Title 13 U.S.C. Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 20, 2007.
Gwellnar Banks,
Management Analyst, Office of the Chief Information Officer.

[FR Doc. E7-14456 Filed 7-25-07; 8:45 am]

BILLING CODE 3510-07-P